DEPARTMENT OF COMMERCE

Foreign-Trade Zones Board

[S-97-2018]

Foreign-Trade Zone 81—Portsmouth, New Hampshire; Application for Subzone, Albany Safran Composites LLC, Rochester, New Hampshire

An application has been submitted to the Foreign-Trade Zones (FTZ) Board by the Pease Development Authority, Division of Ports and Harbors, grantee of FTZ 81, requesting subzone status for the facilities of Albany Safran Composites LLC, located in Rochester, New Hampshire. The application was submitted pursuant to the provisions of the Foreign-Trade Zones Act, as amended (19 U.S.C. 81a-81u), and the regulations of the FTZ Board (15 CFR part 400). It was formally docketed on July 5, 2018.

The proposed subzone would consist of the following sites: Site 1 (50 acres) 85 Innovation Drive, Rochester; and, Site 2 (27 acres) 216 Airport Drive, Rochester. The proposed subzone would be subject to the existing activation limit of FTZ 81. A notification of proposed production activity has been submitted and is being processed under CFR 400.37 (Doc. B-27-2018).

In accordance with the FTZ Board's regulations, Kathleen Boyce of the FTZ Staff is designated examiner to review the application and make recommendations to the Executive Secretary.

Public comment is invited from interested parties. Submissions shall be addressed to the FTZ Board's Executive Secretary at the address below. The closing period for their receipt is August 20, 2018. Rebuttal comments in response to material submitted during the foregoing period may be submitted during the subsequent 15-day period to September 4, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Kathleen Boyce at Kathleen.Boyce@trade.gov or (202) 482-1346.

Dated: July 5, 2018.
Elizabeth Whiteman,
Acting Executive Secretary.

[FR Doc. 2018-14824 Filed 7-10-18; 8:45 am]

BILLING CODE 3510-DS-P